DEPARTMENT OF HEALTH AND HUMAN SERVICES

National Advisory Committee on Seniors and Disasters

AGENCY: Administration for Strategic Preparedness and Response (ASPR), Department of Health and Human Services (HHS).

ACTION: Notice.

SUMMARY: The National Advisory Committee on Seniors and Disasters (NACSD or the Committee) is required by section 2811B of the PHS Act as amended by the Pandemic and All Hazards Preparedness and Advancing Innovation Act (PAHPAIA) and governed by the provisions of the Federal Advisory Committee Act (FACA). The NACSD shall evaluate issues and programs and provide findings, advice, and recommendations to the Secretary of HHS and ASPR to support and enhance all-hazards public health and medical preparedness, response, and recovery aimed at meeting the needs of older adults. The Secretary of HHS has delegated authority to operate the NACSD to ASPR.

DATES: The NACSD will conduct a public meeting (virtual) on May 25, 2023, to discuss, finalize, and vote on an initial set of recommendations to the HHS Secretary and ASPR regarding challenges, opportunities, and priorities for national public health and medical preparedness, response, and recovery, specific to the needs of older adults in disasters. A more detailed agenda and meeting registration link will be available on the NACSD meeting website located at: https://www.phe.gov/NACSD.

ADDRESSES: Members of the public may attend the meeting via a toll-free phone number or Zoom teleconference, which requires pre-registration. The meeting link to pre-register will be posted on https://www.phe.gov/nacsd. Members of the public may provide written comments or submit questions for consideration to the NACSD at any time via email to NACSD@hhs.gov. Members of the public are also encouraged to provide comments after the meeting.

FOR FURTHER INFORMATION CONTACT: Dr. Maxine Kellman, NACSD Designated Federal Officer, Administration for Strategic Preparedness and Response (ASPR), Department of Health and Human Services (HHS), Washington, DC; 202-260-0447, NACSD@hhs.gov.

SUPPLEMENTARY INFORMATION: The NACSD invites those who are involved in or represent a relevant industry, academia, profession, organization, or U.S. state, Tribal, territorial, or local government to request up to four minutes to address the committee live via Zoom. Requests to provide remarks to the NACSD during the public meeting must be sent to NACSD@hhs.gov at least 15 days prior to the meeting along with a brief description of the topic. We would specifically like to request inputs from the public on challenges in disaster training, opportunities, and strategic priorities for national public health and medical preparedness, response, and recovery specific to the needs of older adults before, during, and after disasters. Slides, documents, and other presentation material sent along with the request to speak will be provided to the committee members separately. Please indicate additionally whether the presenter will be willing to take questions from the committee members (at their discretion) immediately following their presentation (for up to four additional minutes).

Dawn O'Connell,
Assistant Secretary for Preparedness and Response.

[FR Doc. 2023-09006 Filed 4-27-23; 8:45 am]

BILLING CODE 4150-37-P